ADMINISTRATIVE CONFERENCE OF THE UNITED STATES

Committee on Adjudication

ACTION: Notice of public meeting.

SUMMARY: Notice is hereby given of a public meeting of the Committee on Adjudication of the Assembly of the Administrative Conference of the United States (ACUS). The meeting will involve discussion of a research report prepared by Professor Lenni B. Benson (New York Law School) and Russell Wheeler (The Governance Institute and Brookings Institution) for ACUS's “Immigration Adjudication” project. The committee will meet via a virtual, online Web forum extending over a period of approximately six weeks. Committee members will discuss the research report by posting comments to the forum and reading comments submitted to the forum by other persons. The public may participate by submitting comments electronically or by mail or fax.

DATES: The Web forum will be opened to both members of the Committee on Adjudication and the public for submission and viewing of comments on February 27, 2012 at 9 a.m. The forum will remain open for submission of comments until April 6, 2012 at 5 p.m., unless it is announced on the forum Web site that the discussion has been completed earlier. After the period for receipt of comments has ended, the forum will remain available for viewing but will not accept additional comments.

ADDRESSES: The meeting will have no physical location. It will take place via an online discussion forum on the Administrative Conference Web site, which can be accessed at: http://www.acus.gov/forum/. The public may submit comments either electronically through the forum Web site or by mail or fax addressed to the Designated Federal Officer.

FOR FURTHER INFORMATION CONTACT: Funmi E. Olorunnipa, Designated Federal Officer for the Committee on Adjudication, ACUS, 1120 20th Street NW., Suite 706 South, Washington, DC 20036; Telephone 202-480-2080; Fax 202-386-7190.

SUPPLEMENTARY INFORMATION: The research report to be considered at the Web forum was prepared by Professor Lenni B. Benson (New York Law School) and Russell Wheeler (The Governance Institute and the Brookings Institution). The research report presents the findings of a study of potential improvements to the procedures for immigration removal adjudication.

The committee will meet via a virtual, online Web forum extending over a period of approximately six weeks. See 41 CFR 102-3.140(e) (permitting meetings conducted “in whole or part by * * * the Internet”). Committee members will discuss the research report by posting comments to the forum and reading comments submitted to the forum by other members of the committee and the public. All comments will be reviewed prior to posting by the Designated Federal Officer (DFO) acting as forum moderator. This virtual meeting will enable the committee to discuss the committee's business using modern communications tools in an open and transparent fashion.

The public will be able to view all comments on the forum. The public may also participate by submitting comments either electronically or by mail or fax via the contact information provided above. The DFO will review all comments received, both online and through other means of submission. The DFO will post all public comments received, excepting those that contain trade secret or other confidential information, or that are obscene, libelous, threatening, unrelated to the topic being discussed, or otherwise evidently inappropriate for posting. When submitting comments, please bear in mind that, because the Web forum will be moderated, it may take some time for comments to appear on the forum, particularly for comments submitted outside business hours.

The Web forum will be opened to both members of the Committee on Adjudication and the public for submission and viewing of comments on February 27, 2012 at 9 a.m. The forum will remain open for submission of comments until April 6, 2012 at 5 p.m., unless it is announced on the forum Web site that the discussion has been completed earlier. Any earlier closing date will be announced on both the forum Web page and on the “Immigration Adjudication” project page at least one week in advance. After the period for receipt of comments has ended, the forum will remain available for viewing but will not accept additional comments.

Complete details regarding the committee's online meeting, the research report and related research documents, and how to participate in the discussion (including information about accessing and navigating the Web forum and submitting comments for the committee's consideration) can be found on the “Immigration Adjudication” project Web page on the ACUS Web site. Go to www.acus.gov and click on Research > Conference Projects < Immigration Adjudication, or go directly to the following address: http://www.acus.gov/research/the-conference-current-projects/immigration-adjudication/.

Dated: February 6, 2012.
David M. Pritzker,
Deputy General Counsel.

[FR Doc. 2012-3091 Filed 2-9-12; 8:45 am]

BILLING CODE 6110-01-P